DEPARTMENT OF HOUSING AND URBAN DEVELOPMENT

[Docket No. FR-5037-N-19]

Notice of Submission of Proposed Information Collection to OMB; Evaluation of the Family Self Sufficiency Program

AGENCY: Office of the Chief Information Officer, HUD.

ACTION: Notice.

SUMMARY: The proposed information collection requirement described below has been submitted to the Office of Management and Budget (OMB) for review, as required by the Paperwork Reduction Act. The Department is soliciting public comments on the subject proposal.

HUD's Office of Policy Development and Research is conducting a five-year study that will track outcomes for a sample of 300 FSS enrollees taken from a sample of twenty Public Housing Authorities operating the FSS program. The study will provide an assessment of the results of the program for participating families and an analysis of the types of program models and features that appear to be associated with successful participant outcomes. The study focuses on the FSS program-serving participants in the Housing Choice Voucher program.

DATES: Comments Due Date: May 15, 2006.

ADDRESSES: Interested persons are invited to submit comments regarding this proposal. Comments should refer to the proposal by name and/or OMB approval Number (2528-Pending) and should be sent to: HUD Desk Officer, Office of Management and Budget, New Executive Office Building, Washington, DC 20503; fax: 202-395-6974.

FOR FURTHER INFORMATION CONTACT: Lillian Deitzer, Reports Management Officer, AYO, Department of Housing and Urban Development, 451 Seventh Street, SW., Washington, DC 20410; e-mail Lillian Deitzer at Lillian_L_Deitzer@HUD.gov or telephone (202) 708-2374. This is not a toll-free number. Copies of available documents submitted to OMB may be obtained from Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information.

Title of Proposal: Evaluation of the Family Self Sufficiency Program.

OMB Approval Number: 2528-Pending.

Form Numbers: None.

Description of the Need for the Information and Its Proposed Use: HUD's Office of Policy Development and Research is conducting a five-year study that will track outcomes for a sample of 300 FSS enrollees taken form a sample of twenty Public Housing Authorities operating the FSS program. The study will provide an assessment of the results of the program for participating families and an analysis of the types of program models and features that appear to be associated with successful participant outcomes. The study focuses on the FSS program serving participants in the Housing Choice Voucher program.

Frequency of Submission: Annually.

| Number of respondents | Annual responses | × | Hours per response | = | Burden hours
Reporting Burden: | 125 | 3.4 |  | 2.6 |  | 1,123

Total Estimated Burden Hours: 1,123.

Status: New Collection.

Authority: Section 3507 of the Paperwork Reduction Act of 1995, 44 U.S.C. 35, as amended.

Dated: April 7, 2006.
Lillian L. Deitzer,
Departmental Paperwork Reduction Act Officer, Office of the Chief Information Officer.

[FR Doc. E6-5433 Filed 4-12-06; 8:45 am]

BILLING CODE 4210-67-P